DELAWARE RIVER BASIN COMMISSION

Notice of Commission Meeting and Public Hearing

Notice is hereby given that the Delaware River Basin Commission will hold an informal conference followed by a public hearing on Wednesday, December 10, 2008. The hearing will be part of the Commission's regular business meeting. The conference session and business meeting both are open to the public and will be held at the Commission's office building, located at 25 State Police Drive, West Trenton, New Jersey.

The conference among the commissioners and staff will begin at 10:30 a.m. Topics of discussion will include: A presentation on Philadelphia water conservation and stormwater management approaches by a representative from the Philadelphia Water Department; a presentation by University of Pennsylvania students on responses to climate change in the Delaware Basin; a status report by a representative of the Commission and the parties to the 1954 Supreme Court Decree in New Jersey v. New York, 347 U.S. 995, 74 S.Ct. 842, concerning the Flexible Flow Management Program (FFMP); and a presentation on the New York City Delaware system tunnel closure by a representative from the New York City Department of Environmental Protection. The Commission will not take action on December 10 to adopt amendments to the DRBC Water Code to implement the FFMP.

The subjects of the public hearing to be held during the 1:30 p.m. business meeting include the dockets listed below:

1. Aqua Pennsylvania, Inc. D-81-61 CP-4. An application for approval of a ground water withdrawal project to renew the allocation included in Docket D-81-61 CP-3 and consolidate all other docket approvals for the Fawn Lakes, Woodloch Springs and Masthope water systems, retaining the existing withdrawal from all wells of 18.38 million gallons per thirty days (mg/30 days). Docket D-81-61 CP-4 will consolidate allocations approved in dockets D-81-61 CP-3, D-87-96 Renewal, and D-89-57 CP Renewal. The projects are located in the Catskill Formation in the Westcolang Creek Watershed in Lackawaxen Township, Pike County, Pennsylvania, within the drainage area to the section of the non-tidal Delaware River known as the Upper Delaware, which is designated as Special Protection Waters.

2. Hercules, Inc. D-87-43-3. An application to replace the withdrawal of water from Wells PW-4 and PW-10 in the applicant's ground water remediation system because of diminished yield and inefficiencies. New Wells PW-4R and PW-10R have been drilled as replacements. The applicant requests that the total approved withdrawal for all the wells in the system remain at 18 mg/30 days of water. The existing and replacement wells are located in the Magothy/Raritan and Cape May Aquifers in the Delaware Watershed in Greenwich Township, Gloucester County, New Jersey.

3. Lehigh County Authority D-2001-20 CP-4. An application to replace the withdrawal of water from Well No. WL-12 in the applicant's water supply system because it has become an unreliable source of supply. The applicant requests that the withdrawal from replacement Well No. WL-12R be limited to 30.240 mg/30 days of water, and that the total withdrawal from all wells in the system remain limited to 256.24 mg/30 days. The project is located in the Allentown Formation in the Little Lehigh Creek Watershed in Lower Macungie Township, Lehigh County, Pennsylvania. The site is located within the drainage area to the section of the non-tidal Delaware River known as the Lower Delaware, which is designated as Special Protection Waters.

4. Unimin Corporation D-2007-14-2. An application for renewal of approval to discharge up to 2.275 mgd through existing Outfall 001A to Dividing Creek from a hydraulic dredging operation. The applicant also discharges to an unnamed tributary to Dividing Creek, through Outfall 002A during large storm events. The facility is located in the Dividing Creek Watershed in Commercial and Downe townships, Cumberland County, New Jersey.

5. Borough of Bally D-78-19 CP-2. An application for approval of a ground water withdrawal project to supply up to 9.70 mg/30 days of water to the applicant's public water supply system from new Well No. 4 and to increase the existing withdrawal from all wells from 9.70 mg/30 days to 19.42 mg/30 days. The increased allocation is requested in order to meet projected increases in service area demand. Well No. 4 will replace existing Well No. 3 as a water supply well because Well No. 3 has become an unreliable source due to local groundwater contamination. The applicant requests that the existing allocation for Well No. 3 (9.70 mg/30 days) be continued in conjunction with approval of the requested increase from Well No. 4 (9.70 mg/30) in order to accommodate continuing remediation of the contaminated portion of the aquifer. The water allocated to Well No. 3 will not be used in the public water system. The project is located in the Leithsville Formation in the Perkiomen Creek Watershed in Bally Borough and Washington Township, Berks County, Pennsylvania.

6. Borough of Hopatcong D-92-85 CP-3. An application for approval of a ground water withdrawal project to increase the withdrawal from 18.91 mg/30 days to 20.8 mg/30 days of water to the applicant's public water supply distribution system from existing Wells Nos. 1, 2, 3, 3A, 4, 5, 8, 12, Squire, River Styx and new Wells Nos. 14, 15, 16 and 17 in the Precambrian Crystalline Rock Formation. The project is located in the Musconetcong River Watershed in Hopatcong Borough, Sussex County, New Jersey.

7. New Jersey American Water Company D-93-28 CP-3. An application for approval of a ground water withdrawal project to supply up to 7.7 mg/30 days of water to the applicant's public water supply distribution system from Well Nos. 2 and 3 and to temporarily increase the withdrawal from all wells from 4.7 mg/30 days to 7.7 mg/30 days. The increased allocation is requested in order to meet projected residential demand until an interconnection is completed. The project is located in the Potomac Formation in the Raccoon Creek Watershed in Logan Township, Gloucester County, New Jersey.

8. Sinking Spring Borough Municipal Authority D-94-31 CP-2. An application for approval of the expansion of the existing wastewater treatment plant (WWTP) of the Sinking Spring Borough Municipal Authority. The application includes a proposed increase in the Authority's allowable discharge from 1.00 million gallons per day (mgd) to 1.25 mgd and related construction to expand the plant's capacity. The plant will continue to discharge to Cacoosing Creek, a tributary of the Tulpehocken Creek. The facility is located in Spring Township, Berks County, Pennsylvania.

9. New Jersey American Water D-95-46 CP-2. An application for approval of a ground water withdrawal project to supply up to 255 mg/30 days of water to the applicant's combined public water supply systems. The withdrawal reflects the interconnection of the Mansfield (Docket No. D-95-46 CP-2) and Mount Holly (Docket No. D-94-8 CP) water supply systems. The allocation of water includes withdrawals from existing Well Nos. 1, 2, 3, and 4 and new Well Nos. 5, 7, and 8 of the Mansfield water supply system and Well Nos. 3R, 4, 5, 6, and 7 of the Mount Holly water supply system. The allocation increases the existing withdrawal from the Mansfield system from 88.7 mg/30 days to 160 mg/30 days. The allocation of groundwater withdrawal from the Mount Holly system will remain at 108.5 mg/30 days. The allocation increases the existing combined withdrawal from all wells in both systems from 184 mg/30 days to 255 mg/30 days. The increased allocation is requested in order to meet projected increases in service area demand. The project is located in the Potomac-Raritan-Magothy Aquifers in the Assicunk Creek, Crafts Creek, and North Branch Rancocas Creek Watersheds in Mount Holly, Westampton, and Mansfield Townships, Burlington County, New Jersey.

10. Sanofi Pasteur, Inc. D-99-71-3. An application for approval of temporary phased increases in the allowable discharge to Swiftwater Creek from Sanofi's industrial wastewater treatment plant (IWTP). Increases from 0.55 mgd to 0.70 mgd and 0.90 mgd are proposed pending construction of a regional interceptor and a regional wastewater treatment plant (WWTP) capable of accepting flows from the Sanofi facility in excess of 0.55 mgd. The interceptor and WWTP projects are expected to be completed in 2010. The applicant also seeks approval for construction to expand its processes and for an increase in its TDS effluent limits similar to the increase granted to the existing facility. Docket No. D-99-71-2 approved the current stream discharge of 0.55 mgd and expansion of the IWTP to 0.95 mgd. The project is located in the Brodhead Creek Watershed in Pocono Township, Monroe County, Pennsylvania. The Sanofi IWTP currently utilizes land application and will continue to do so in conjunction with its Outfall 001 discharging to Swiftwater Creek. Swiftwater Creek is a tributary of Paradise Creek, which is a tributary of Brodhead Creek, which flows into the Delaware River at River Mile 213.0-11.4-4.4-3.5.

11. Broad Acres, Inc. D-2000-31. A modified application for the renewal of a ground water withdrawal project and to increase the existing allocation from 135.7 mg/30 days to 259 mg/30 days to supply the docket holder's agricultural irrigation project from five existing wells and six new wells. The project is located in the Columbia, Cheswold and Federalsburg Formations in the Leipsic River Watershed in the City of Dover, Kent County, Delaware. A Notice of Application Received (NAR) for this project was previously published on June 9, 2000.

12. City of Allentown D-2000-45 CP. An application to increase the applicant's surface withdrawal allocation of 4 mgd to 5 mgd from Crystal Springs, a tributary of the Little Lehigh River; and to reduce the docket holder's total allocation from all sources from 39 mgd to 20 mgd. The docket holder utilizes four sources for public water supply; Crystal Springs, Schantz Spring, the Little Lehigh River and the Lehigh River. The docket holder will continue to provide water to the City of Allentown, the Whitehall Township Authority, and portions of Hanover, Salisbury, and South Whitehall Townships, all in Lehigh County, Pennsylvania.

13. Audubon Water Company D-2004-4 CP-2. An application for the renewal of a ground water withdrawal project to continue withdrawal of 49.79 mg/30 days to supply the applicant's public water supply distribution system from 17 existing wells and new replacement Well AWC-15 in the Lockatong Formation. The project is located in the Perkiomen Creek Watershed in Lower Providence Township, Montgomery County, Pennsylvania, within the Southeastern Pennsylvania Ground Water Protected Area. The Commission staff recommended a reduction in the docket holder's allocation from 49.79 mg/30 days to 45.4 mg/30 days based on the docket holder's 10-year projected total maximum use.

14. Tidewater Utilities, Inc. D-2004-24-CP-2. An application for approval of a ground water withdrawal project to supply up to 88.977 mg/30 days of water to the applicant's water supply system from new and existing wells nos. C-01, C-02, RG-01, RG-02, GG-02, GG-03, JL-01, JL-02, JL-03, and WF-01, and to increase the withdrawal from all wells from 18.5055 mg/30 days to 88.977 mg/30 days. Tidewater Utilities, Inc. plans to combine the Camden Park, Generals Green, Jonathan's Landing, and Woodfield withdrawal wells under a single groundwater withdrawal docket. The increased allocation is requested to include all current withdrawals under a single docket and to meet projected increases in service area demand. With the exception of the Woodfield Well WF-01, the project wells are located in the Cheswold Aquifer in the St. Jones River Watershed in the Towns of Camden, Dover, and Magnolia, Kent County, Delaware. The Woodfield well is located in the Federalsburg Aquifer in the Town of Woodside, Kent County, Delaware.

15. Borough of Bryn Athyn D-2008-13 CP-2. An application for the approval of a rerate of the existing Borough of Bryn Athyn Academy of the New Church WWTP. The application is for an increase in the WWTP's hydraulic design capacity from 0.065 mgd to 0.080 mgd. The WWTP's existing annual average effluent limitations of 0.065 mgd will remain unchanged. The WWTP will continue to discharge to an unnamed tributary of Huntingdon Valley Creek, itself a tributary of Pennypack Creek. The facility is located in Bryn Athyn Borough, Montgomery County, Pennsylvania.

16. Shawnee Country Club D-2008-1-1. An application for approval of a ground water withdrawal project to supply up to 5.4308 mg/30 days of water to the applicant's golf course irrigation system from new Wells Nos. 1, 2, 3 and 4. The project is located in the Columbia Formation in the Mispillion River Watershed in the Town of Milford, Kent County, Delaware.

17. Rake Pond Farm LLC D-2008-14 CP-1. A combined surface water and ground water withdrawal project to supply a maximum of 11 mg/30 days of water to the applicant's irrigation of approximately 20 acres of cranberries. The water withdrawal is utilized for crop irrigation, frost protection and harvest of cranberry bogs. The applicant's man-made ponds are recharged by ground water withdrawn from the Kirkwood Cohansey Aquifer in the Rancocas Creek Watershed in Southampton Borough, Burlington County, New Jersey.

18. Penn Terminal, Inc. D-2008-19-1. An application for approval of the construction of a 450-foot extension of the existing wharf. The proposed construction would consist of a line of filled cellular cofferdam bulkheads that would be driven to sit atop bedrock at 40 feet below mean low water (MLW) via dead weight cellular construction. Each cofferdam cell would be 48 feet wide. Approximately 10,400 cubic yards of dry fill material would be placed inside the cofferdam cells, 4,800 cubic yards of which would be below MLW. The project is located in the Borough of Eddystone, Delaware County, Pennsylvania.

19. FPL Energy Marcus Hook, L.P. D-2008-21-1. An application for approval to construct a new 4.32 mgd outfall for the purpose of redirecting processed wastewater. The discharge will consist of cooling tower blowdown and low volume waste streams directed to a newly constructed submerged outfall located along Sunoco's off-loading pier. The project will discharge to Zone 4 of the Delaware River. The facility is located in Marcus Hook Borough, Delaware County, Pennsylvania.

20. Steven Parisi/Falling Creek Investment LLC D-2008-22-1. An application for approval of the construction of The Woods WWTP, a 31,250 gpd facility that is proposed to discharge to a holding pond for spray irrigation. The project is located within the drainage area of the section of the non-tidal Delaware River known as the Lower Delaware, which is designated as Special Protection Waters. The project is located in the Pohopoco Creek Watershed, in Polk Township, Monroe County, Pennsylvania.

21. London Grove Township Municipal Authority D-2008-33 CP-1. An application for the approval of the proposed London Grove Township Municipal Authority Conard Pyle WWTP and effluent disposal system. Treated sewage effluent from the Conard Pyle WWTP will be piped through proposed force mains to three (3) proposed offsite spray irrigation facilities at separate locations throughout London Grove Township. The hydraulic capacity of the proposed WWTP and disposal system is 0.607 mgd. The WWTP is to be located on the east side of Rosehill Road, southeast of its intersection with State Road, in London Grove Township, Chester County, Pennsylvania. The project is located in the Brandywine-Christina Watershed.

22. Horsham Water & Sewer Authority D-1997-16 CP-2. Approval is requested for minor corrections to the pump capacity table in Section A.4.b. of Docket D-1997-16 CP-2, issued to HWSA on July 16, 2008. The table in the docket failed to reflect very small changes to the pump capacities that occurred between 1997, the date of approval of the previous HWSA docket, and July, 2008. A revised docket containing the corrected table is requested. The project wells are located in the Pennypack Creek, Park Creek and Little Neshaminy Creek Watersheds in the Stockton Formation.

The business meeting also will include adoption of the Minutes of the Commission's July 16 and September 24, 2008 business meetings; announcements of upcoming advisory committee meetings and other events; a report on hydrologic conditions in the basin; a report by the Executive Director; and a report by the Commission's General Counsel. Additional business meeting items will include the following: a public hearing and consideration by the Commission of a resolution to administratively continue Docket No. D-69-210 CP-12 for the Exelon Limerick Generating Station until December 31, 2009 or completion of the public process on Exelon's pending application for a docket renewal with modifications, whichever occurs first; consideration by the Commission of a resolution adopting proposed amendments to the Water Code and Comprehensive Plan to implement water auditing to identify and control water loss; a hearing and consideration by the Commission of a resolution to approve the DRBC 2009-2014 Water Resources Program; and a hearing followed by consideration of a resolution authorizing the Executive Director to enter into an agreement for a sediment flux study of mercury in Water Quality Zone 5 upon securing funds for such a study. The Commission will hold a public hearing but will not consider for adoption on December 10 a resolution approving the DRBC fiscal year 2010 expense and capital budgets. An opportunity for public dialogue will be provided at the end of the meeting.

Draft dockets scheduled for public hearing on December 10, 2008 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: November 25, 2008.
Pamela M. Bush,
Commission Secretary.

[FR Doc. E8-28538 Filed 12-1-08; 8:45 am]

BILLING CODE 6360-01-P